DEPARTMENT OF LABOR

Mine Safety and Health Administration

Petitions for Modification

The following parties have filed petitions to modify the application of existing safety standards under section 101(c) of the Federal Mine Safety and Health Act of 1977.

1. Rosebud Mining Company

[Docket No. M-2000-135-C]

Rosebud Mining Company, R.D. #9, Box 379A, Kittanning, Pennsylvania 16201 has filed a petition to modify the application of 30 CFR 75.1100-2(e)(2) (quantity and location of firefighting equipment) to its Rosebud No. 2 Mine (I.D. No. 36-08410), Rosebud No. 3 Mine (I.D. No. 36-08773), Roaring Run Mine (I.D. No. 36-08329), Tracy Lynne Mine (I.D. No. 36-08603), Dutch Run Mine (I.D. No. 36-08701) all located in Armstrong County, Pennsylvania; Josephine No. 3 Mine (I.D. No. 36-08719) located in Indiana County, Pennsylvania; and Twin Rocks Mine (I.D. No. 36-08836) located in Cambria County, Pennsylvania. The petitioner proposes to use an alternative method of compliance for firefighting equipment at temporary electrical installations. The petitioner proposes to use two (2) fire extinguishers or one fire extinguisher of twice the required capacity at all temporary electrical installations instead of using 240 pounds of rock dust. The petitioner asserts that the proposed alternative method would provide at least the same measure of protection as the existing standard and will not result in a diminution of safety to the miners.

2. Gibson County Coal, L.L.C.

[Docket No. M-2000-136-C]

Gibson County Coal, L.L.C., P.O. Box 1269, Route 3 Lyle Station Road, Princeton, Indiana 47670 has filed a petition to modify the application of 30 CFR 75.503 (permissible electric face equipment; maintenance) to its Gibson Mine (I.D. No. 12-02215) located in Gibson County, Indiana. The petitioner proposes to use a spring-loaded device with specific fastening characteristics instead of a padlock to secure plugs and electrical type connectors to batteries, and to the permissible mobile powered equipment the batteries serve, to prevent the battery plugs from accidentally separating from their receptacles during normal operation of the battery equipment. The petitioner asserts that the proposed alternative method would provide at least the same measure of protection as the existing standard and will not result in a diminution of safety to the miners.

3. Gibson County Coal, L.L.C.

[Docket No. M-2000-137-C]

Gibson County Coal, L.L.C., P.O. Box 1269, Route 3 Lyle Station Road, Princeton, Indiana 47670 has filed a petition to modify the application of 30 CFR 75.901 (protection of low- and medium-voltage three-phase circuits used underground) to its Gibson Mine (I.D. No. 12-02215) located in Gibson County, Indiana. The petitioner proposes to use a 480-volt, three-phase, 200KW diesel powered generator set with an approved diesel drive engine to supply power to a 250 KVA three-phase transformer and three-phase 480-, 600-, and 995-volt power circuit, to move equipment in and out of the mine and to perform rehab work in areas outby section loading points. The petitioner asserts that the proposed alternative method would provide at least the same measure of protection as the existing standard.

4. Black Beauty Coal Company

[Docket No. M-2000-138-C]

The Peabody Group, 801 Laidley Tower, P.O. Box 1233, Charleston, West Virginia 25324-1233 has filed a petition for the Black Beauty Coal Company, 8282 Catlin Indianola Road, Catlin, Illinois 61817, to modify the application of 30 CFR 75.1002 (location of trolley wires, trolley feeder wires, high-voltage cables and transformers) to its Riola #1 Mine (I.D. No. 11-02971) located in Vermilion County, Illinios. The petitioner proposes to use high-voltage (2,400) trailing cables inby the last open crosscut at the working continuous miner section(s). The petitioner asserts that the proposed alternative method would provide at least the same measure of protection as the existing standard.

5. R & R Coal Company

[Docket No. M-2000-139-C]

R & R Coal Company, 21 East Wood Street, Pine Grove, Pennsylvania 17963 has filed a petition to modify the application of 30 CFR 75.335 (construction of seals) to its R & R Coal Company Mine (I.D. No. 36-08498) located in Schuylkill County, Pennsylvania. The petitioner requests a modification of the existing standard to permit alternative methods of construction of seals using wooden materials of moderate size and weight due to the difficulty in accessing previously driven headings and breasts containing inaccessible abandoned workings; to accept a design criteria in the 10 psi range; and to permit the water trap to be installed in the gangway seal and sampling tube in the monkey seal for seals installed in pairs. The petitioner asserts that the proposed alternative method would provide at least the same measure of protection as the existing standard.

6. R & R Coal Company

[Docket No. M-2000-140-C]

R & R Coal Company, 21 East Wood Street, Pine Grove, Pennsylvania 17963 has filed a petition to modify the application of 30 CFR 75.1200(d) & (i) (mine map) to its R & R Coal Company Mine (I.D. No. 36-08498) located in Schuylkill County, Pennsylvania. The petitioner proposes to use cross-sections instead of contour lines through the intake slope, at locations of rock tunnel connections between veins, and at 1,000 foot intervals of advance from the intake slope; and to limit the required mapping of the mine workings above and below to those present within 100 feet of the veins being mined except when veins are interconnected to other veins beyond the 100-foot limit through rock tunnels. The petitioner asserts that due to the steep pitch encountered in mining anthracite coal veins, contours provide no useful information and their presence would make portions of the mine illegible. The petitioner further asserts that use of cross-sections in lieu of contour lines has been practiced since the late 1800's thereby providing critical information relative to the spacing between veins and proximity to other mine workings which fluctuate considerably. The petitioner asserts that the proposed alternative method would provide at least the same measure of protection as the existing standard.

7. R & R Coal Company

[Docket No. M-2000-141-C]

R & R Coal Company, 21 East Wood Street, Pine Grove, Pennsylvania 17963 has filed a petition to modify the application of 30 CFR 75.1202 and 75.1202-1(a) (temporary notations, revisions, and supplements) to its R & R Coal Company Mine (I.D. No. 36-08498) located in Schuylkill County, Pennsylvania. The petitioner proposes to revise and supplement mine maps annually instead of every 6 months as required, and to update maps daily by hand notations. The petitioner also proposes to conduct surveys prior to commencing retreat mining and whenever a drilling program under 30 CFR 75.388 or plan for mining into inaccessible area under 30 CFR 75.389 is required. The petitioner asserts that the low production and slow rate of advance in anthracite mining make surveying on 6-month intervals impractical. The petitioner asserts that the proposed alternative method would provide at least the same measure of protection as the existing standard.

8. RAG Emerald Resources LP

[Docket No. M-2000-142-C]

RAG Emerald Resources LP, One Oxford Centre, 301 Grant Street, Pittsburgh, Pennsylvania 15219-1410 has filed a petition to modify the application of 30 CFR 75.507 (power connection points) to its Emerald Mine (I.D. No. 36-05466) located in Greene County, Pennsylvania. The petitioner requests that the Proposed Decision and Order of its previously granted petition for modification, docket number M-96-069-C be amended to permit use of the petition at locations other than the No. 3 bleeder shaft at the Emerald Mine. The petitioner asserts that the proposed alternative method would provide at least the same measure of protection as the existing standard.

9. San Juan Coal Company

[Docket No. M-2000-143-C]

San Juan Coal Company, P.O. Box 561, Waterflow, New Mexico 87421 has filed a petition to modify the application of 30 CFR 75.1909(b)(6) (nonpermissible diesel-powered equipment; design and performance requirements) to its San Juan South Mine (I.D. No. 29-02170) and San Juan Deep Mine (I.D. No. 29-02201) located in San Juan County, New Mexico. The petitioner proposes to operate its diesel road grader without front wheel brakes. The petitioner proposes to operate its diesel grader at a maximum speed of 10 miles per hour, lower the moldboard to increase stopping capability in emergency situations, and to provide training to grader operators on how to recognize the appropriate speeds for different road and slope conditions. The petitioner asserts that the proposed alternative method would provide at least the same measure of protection as the existing standard and that application of the existing standard would result in a diminution of safety to the miners.

10. McCoy Elkhorn Coal Corporation

[Docket No. M-2000-144-C]

McCoy Elkhorn Coal Corporation, 1148 Long Fork Road, Kimper, Kentucky 41539 has filed a petition to modify the application of 30 CFR 75.503 (permissible electric face equipment; maintenance) to its No. 14 Mine (I.D. No. 15-18088), No. 16 Mine (I.D. No. 15-18250), No. 21 Mine (I.D. No. 15-18085), and Smithfork Mine (I.D. No. 15-16693) all located in Pike County, Kentucky. The petitioner proposes to use a permanently installed spring-loaded locking device on mobile battery-powered machines instead of padlocks to prevent the battery plugs from accidentally separating from their receptacles, and to eliminate the hazards associated with difficult removal of padlocks during emergency situations. The petitioner asserts that application of the existing standard would result in a diminution to the miners and that the proposed alternative method would provide at least the same measure of protection as the existing standard.

11. Ohio County Coal Corporation

[Docket No. M-2000-145-C]

Ohio County Coal Corporation, 19050 Highway 1078 South, Henderson, Kentucky 42420 has filed a petition to modify the application of 30 CFR 75.503 (permissible electric face equipment; maintenance) to its Freedom Mine (I.D. No. 15-17587) located in Hopkins County, Kentucky. The petitioner proposes to use a spring-loaded device with specific fastening characteristics instead of a padlock to secure plugs and electrical type connectors to batteries and to the permissible mobile powered equipment the batteries serve, to prevent battery plugs from accidentally separating from their receptacles during normal operation of the battery equipment. The petitioner asserts that the proposed alternative method would provide at least the same measure of protection as the existing standard.

12. Powder River Coal Company

[Docket No. M-2000-146-C]

Powder River Coal Company, Caller Box 3035, Gillette, Wyoming 62717-3035 has filed a petition to modify the application of 30 CFR 77.1200 (mine map) to its North Antelope/Rochelle Complex (I.D. No. 48-01353) located in Campbell County, Wyoming. The petitioner proposes to use a scale of 1,000 feet to the inch instead of using a scale of not less than 100 or more than 500 feet to the inch. The petitioner asserts that the proposed alternative method would provide at least the same measure of protection as the existing standard and would not result in a diminution of safety to the miners.

13. Gibson County Coal Corporation

[Docket No. M-2000-147-C]

Gibson County Coal Corporation, P.O. Box 1269, Route 3, Lyle Station Road, Princeton, Indiana 47670 has filed a petition to modify the application of 30 CFR 75.701 (grounding metallic frames, casings, and other enclosures of electric equipment) to its Gibson Mine (I.D. No. 12-02215) located in Gibson County, Indiana. The petitioner proposes to use a 200 KW/250 KVA, 480-volt, diesel powered generator set to move equipment in and out of the mine(s) and in emergency situations to move equipment underground. The petitioner proposes to have the neutral of the secondary side of the wye configured 480-, 575-, 995-volt transformer in series between it and the frame of the generator unit, a 995-volt rated resistor that will limit phase-to-frame fault current to 0.5 ampere continuously. The petitioner asserts that the proposed alternative method would provide at least the same measure of protection as the existing standard.

14. D & F Deep Mine

[Docket No. M-2000-148-C]

D & F Deep Mine, RD 1, Box 33A, Klingerstown, Pennsylvania 17941 has filed a petition to modify the application of 30 CFR 49.2 (mine rescue teams) to its Buck Drift Mine (I.D. No. 36-07456) located in Schuylkill County, Pennsylvania. The petitioner requests a modification of the standard to permit the reduction of two mine rescue teams with five members and one alternate each, to two mine rescue teams of three members with one alternate for either team. The petitioner asserts that the proposed alternative method would provide at least the same measure of protection as the existing standard.

15. D & F Deep Mine

[Docket No. M-2000-149-C]

D & F Deep Mine, RD 1, Box 33A, Klingerstown, Pennsylvania 17941 has filed a petition to modify the application of 30 CFR 75.335 (construction of seals) to its Buck Drift Mine (I.D. No. 36-07456) located in Schuylkill County, Pennsylvania. The petitioner requests a modification of the existing standard to permit alternative methods of construction of seals using wooden materials of moderate size and weight due to the difficulty in accessing previously driven headings and breasts containing inaccessible abandoned workings; to accept a design criteria in the 10 psi range; and to permit the water trap to be installed in the gangway seal and sampling tube in the monkey seal for seals installed in pairs. The petitioner asserts that the proposed alternative method would provide at least the same measure of protection as the existing standard.

16. D & F Deep Mine

[Docket No. M-2000-150-C]

D & F Deep Mine, RD 1, Box 33A, Klingerstown, Pennsylvania 17941 has filed a petition to modify the application of 30 CFR 75.1100-2(a) (quantity and location of firefighting equipment) to its Buck Drift Mine (I.D. No. 36-07456) located in Schuylkill County, Pennsylvania. The petitioner proposes to use an alternative method of compliance for firefighting equipment at temporary electrical installations. The petitioner proposes to use two (2) fire extinguishers or one fire extinguisher of twice the required capacity at all temporary electrical installations instead of using 240 pounds of rock dust. The petitioner asserts that the proposed alternative method would provide at least the same measure of protection as would the existing standard.

17. D & F Deep Mine

[Docket No. M-2000-151-C]

D & F Deep Mine, RD 1, Box 33A, Klingerstown, Pennsylvania 17941 has filed a petition to modify the application of 30 CFR 75.1200(d) & (i) (mine map) to its Buck Drift Mine (I.D. No. 36-07456) located in Schuylkill County, Pennsylvania. The petitioner proposes to use cross-sections instead of contour lines through the intake slope, at locations of rock tunnel connections between veins, and at 1,000 foot intervals of advance from the intake slope; and to limit the required mapping of the mine workings above and below to those present within 100 feet of the veins being mined except when veins are interconnected to other veins beyond the 100-foot limit through rock tunnels. The petitioner asserts that due to the steep pitch encountered in mining anthracite coal veins, contours provide no useful information and their presence would make portions of the mine illegible. The petitioner further asserts that use of cross-sections in lieu of contour lines has been practiced since the late 1800's thereby providing critical information relative to the spacing between veins and proximity to other mine workings which fluctuate considerably. The petitioner asserts that the proposed alternative method would provide at least the same measure of protection as the existing standard.

18. D & F Deep Mine

[Docket No. M-2000-152-C]

D & F Deep Mine, RD 1, Box 33A, Klingerstown, Pennsylvania 17941 has filed a petition to modify the application of 30 CFR 75.1202 and 75.1202-1(a) (temporary notations, revisions, and supplements) to its Buck Drift Mine (I.D. No. 36-07456) located in Schuylkill County, Pennsylvania. The petitioner proposes to revise and supplement mine maps annually instead of every 6 months as required, and to update maps daily by hand notations. The petitioner also proposes to conduct surveys prior to commencing retreat mining and whenever a drilling program under 30 CFR 75.388 or plan for mining into inaccessible area under 30 CFR 75.389 is required. The petitioner asserts that the low production and slow rate of advance in anthracite mining make surveying on 6-month intervals impractical. The petitioner asserts that the proposed alternative method would provide at least the same measure of protection as the existing standard.

19. Shamrock Coal Company

[Docket No. M-2000-153-C]

Shamrock Coal Company, 1374 Highway 192 East, London, Kentucky 40741 has filed a petition to modify the application of 30 CFR 75.1700 (oil and gas wells) to its Shamrock #18 Series Mine (I.D. No. 15-02502) located in Leslie County, Kentucky. The petitioner has identified one oil or gas well located adjacent to longwall gate entries, and within a proposed longwall mining panel at its Shamrock #18 Series underground mine. The petitioner proposes to plug the well and mine through the plugged well. The petitioner asserts that the proposed alternative method would provide at least the same measure of protection as the existing standard.

20. Canyon Fuel Company, LLC

[Docket No. M-2000-154-C]

Canyon Fuel Company, LLC, HC 35 Box 380, Helper, Utah 84526-9804 has filed a petition to modify the application of 30 CFR 75.350 (air courses and belt haulage entries) to its Skyline Mine No. 3 (I.D. No. 42-01566) located in Carbon County, Utah. The petitioner proposes to use belt air to ventilate active working places. The petitioner asserts that the proposed alternative method would provide at least the same measure of protection as the existing standard.

21. Mountain Coal Company, L.L.C.

[Docket No. M-2000-155-C]

Mountain Coal Company, L.L.C., 5174 Highway 133, P. O. Box 591, Somerset, Colorado 81434 has filed a petition to modify the application of 30 CFR 75.352 (return air courses) to its West Elk Mine (I.D. No. 05-03672) located in Gunnison County, Colorado. The petitioner requests a modification of the existing standard to permit the use of a two-entry mining system with the belt entry used as a return air course as stipulated in this petition for modification during longwall panel development mining. The petitioner proposes to install a low-level carbon monoxide system to be used as an early warning detection system during panel development mining, longwall setup, longwall retreat mining, and longwall recovery. The petitioner asserts that application of the existing standard would result in a diminution of safety to the miners and that the proposed alternative method would provide at least the same measure of protection as the existing standard.

22. Oxbow Carbon and Minerals, Inc.

[Docket No. M-2000-156-C]

Oxbow Carbon and Minerals, Inc., P.O. Box 535, Somerset, Colorado 81434 has filed a petition to modify the application of 30 CFR 75.701 (grounding metallic frames, casings, and other enclosures of electric equipment) to its Sanborn Creek Mine (I.D. No. 05-04452) located in Gunnison County, Colorado. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

23. Oxbow Carbon and Minerals, Inc.

[Docket No. M-2000-157-C]

Oxbow Carbon and Minerals, Inc., P.O. Box 535, Somerset, Colorado 81434 has filed a petition to modify the application of 30 CFR 75.901 (protection of low- and medium-voltage three-phase circuits used underground) to its Sanborn Creek Mine (I.D. No. 05-04452) located in Gunnison County, Colorado. The petitioner requests a modification of the existing standard to permit an alternative method for grounding of a diesel generator. The petitioner proposes to use a 480 volt, wye connected, 320 KW portable diesel powered generator for utility power and to move electrically powered mining equipment in and around the mine. The petitioner asserts that the proposed alternative method would provide at least the same measure of protection as the existing standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before January 4, 2001. Copies of these petitions are available for inspection at that address.

Dated: November 22, 2000.
Carol J. Jones,
Director, Office of Standards, Regulations, and Variances.

[FR Doc. 00-30841 Filed 12-4-00; 8:45 am]

BILLING CODE 4510-43-P